DEPARTMENT OF STATE

[Public Notice 6374]

Notice of Intent To Establish the Global AIDS Coordinator's Expert Panel on Prevention of Mother-to-Child Transmission of HIV

SUMMARY: Pursuant to section 309 of the United States Global Leadership Against HIV/AIDS, Tuberculosis, and Malaria Reauthorization Act of 2008, (“the Act”), Public Law 110-293, this is a notice of intent to establish the Global AIDS Coordinator's Expert Panel on Prevention of Mother-to-Child Transmission of HIV.

Purpose: The objectives and scope of activities of the Expert Panel are to provide an objective review of activities to prevent mother-to-child transmission of HIV (human immunodeficiency virus, the pathogen that causes Acquired Immune Deficiency Syndrome (AIDS)), and to provide a report and recommendations to the Global AIDS Coordinator and to the appropriate congressional committees for scale-up of prevention of Mother-to-Child transmission prevention services.

Membership: The Panel shall consist of not more than fifteen members appointed by the Global AIDS Coordinator. Members of the Panel shall be drawn from governmental and private sector organizations, in accordance with the requirements under section 309 of the Act. All meetings of this Panel will be announced ahead of time by notice published in the Federal Register.

Further information regarding this Panel may be obtained from Rebecca Hooper, Office of the Global AIDS Coordinator, U.S. Department of State, Washington, DC 20520, (202) 663-2440.

Dated: September 29, 2008.
Thomas Walsh,
Deputy U.S. Global AIDS Coordinator, Acting Department of State.

[FR Doc. E8-23564 Filed 10-3-08; 8:45 am]

BILLING CODE 4710-10-P